ENVIRONMENTAL PROTECTION AGENCY

40 CFR Part 2

[EPA-HQ-OAR-2009-0924; FRL-9193-7]

RIN 2060-AQ04

Supplemental Proposal to the Proposed Confidentiality Determinations for Data Required Under the Mandatory Greenhouse Gas Reporting Rule

AGENCY: Environmental Protection Agency (EPA).

ACTION: Extension of public comment period.

SUMMARY: On July 27, 2010, EPA published a Supplemental Proposal that proposed confidentiality determinations for certain data elements contained in proposed revisions to the Mandatory Greenhouse Gas Reporting Rule. In this action, EPA is extending the comment period for the Supplemental Proposal until September 7, 2010.

DATES: Comments. This document extends the comment period for the Supplemental Proposal to the Proposed Confidentiality Determinations for Data Required under the Mandatory Greenhouse Gas Reporting Rule (75 FR 43889). Comments must be received on or before September 7, 2010.

ADDRESSES: Submit your comments, identified by Docket ID No. EPA-HQ-OAR-2009-0924, by one of the following methods:

Federal eRulemaking Portal: http://www.regulations.gov. Follow the online instructions for submitting comments.

E-mail: GHGReportingCBI@epa.gov.

Fax: (202) 566-1741.

Mail: Environmental Protection Agency, EPA Docket Center (EPA/DC), Mailcode 6102T, Attention Docket ID No. EPA-HQ-OAR-2009-0924, 1200 Pennsylvania Avenue, NW., Washington, DC 20460.

Hand Delivery: EPA Docket Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2009-0924. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room B102, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGMRR@epa.gov. For technical information, contact the Greenhouse Gas Reporting Rule Hotline at: http://www.epa.gov/climatechange/emissions/ghgrule_contactus.htm. Alternatively, contact Carole Cook at 202-343-9263.

SUPPLEMENTARY INFORMATION: Additional Information on Submitting Comments: To expedite review of your comments by Agency staff, you are encouraged to send a separate copy of your comments, in addition to the copy you submit to the official docket, to Carole Cook, U.S. EPA, Office of Atmospheric Programs, Climate Change Division, Mail Code 6207-J, Washington, DC, 20460, telephone (202) 343-9263, e-mail GHGReportingCBI@epa.gov.

Background on Today's Action: In this action, EPA is extending the public comment period on the July 27, 2010 Supplemental Proposal to the Proposed Confidentiality Determinations for Data Required Under the Mandatory Greenhouse Gas Reporting Rule (“Supplemental CBI Proposal,” 75 FR 43889). EPA is extending the comment period for the Supplemental CBI Proposal to September 7, 2010.

On July 7, 2010, EPA published the Proposed Confidentiality Determinations for Data Required Under the Mandatory Greenhouse Gas Reporting Rule and Proposed Amendment to Special Rules Governing Certain Information Obtained Under the Clean Air Act (“CBI Proposal,” 75 FR 39094). The comment period for the CBI Proposal ends on September 7, 2010.

On July 27, 2010, EPA published the Supplemental CBI Proposal; the comment period for the Supplemental CBI Proposal would have ended on August 26, 2010.

EPA received comments requesting an extension of the public comment period for the Supplemental CBI Proposal to September 7, 2010. Commenters noted that the CBI Proposal and the Supplemental CBI Proposal both concern the confidentiality of data collected under the Greenhouse Gas Reporting Program. Commenters also noted how comments on the two proposals might be easily consolidated into one document. Therefore, to facilitate submission of public comments, EPA is extending the comment period for the Supplemental CBI Proposal to September 7, 2010 so that the comment period for both actions ends on the same day.

List of Subjects in 40 CFR Part 2

Environmental protection, Administrative practice and procedure, Reporting and recordkeeping requirements.

Dated: August 23, 2010.
Dina Kruger,
Acting Director, Office of Atmospheric Programs.

[FR Doc. 2010-21385 Filed 8-26-10; 8:45 am]

BILLING CODE 6560-50-P